EQUAL EMPLOYMENT OPPORTUNITY COMMISSION

29 CFR Part 1614

RIN 3046-AB00

Official Time in Federal Sector Cases Before the Commission

AGENCY: Equal Employment Opportunity Commission

ACTION: Proposed rule; reopening of comment period.

SUMMARY: The Equal Employment Opportunity Commission (EEOC) is announcing that it is reopening the comment period for the proposed rule on Official Time in Federal Sector Cases Before the Commission for an additional 60 days. The original comment period ended on February 10, 2020.

DATES: The comment period for the proposed rule published on December 11, 2019 at 84 FR 67683 is reopened. Written comments must be received on or before July 31, 2020.

ADDRESSES: You may submit comments, identified by Regulatory Information Number (RIN) 3046-AB00, on the Federal eRulemaking Portal: http://www.regulations.gov. Alternatively, you may submit comments, which must reference RIN Number 3046-AB00, by U.S. Mail to: Bernadette Wilson, Executive Officer, Office of the Executive Secretariat, U.S. EEOC, 131 M Street NE, Washington, DC 20507.

Instructions: The Commission invites comments from all interested parties. All comment submissions must include the agency name and docket number or RIN for this rulemaking. If you previously submitted comments during the original comment period, you do not need to submit those same comments again. Comments need be submitted in only one of the above listed formats. All comments received will be posted without change to http://www.regulations.gov, including any personal information you provide.

Docket: For access to the docket to read comments previously received, go to https://www.regulations.gov/docket?D=EEOC-2019-0004. Copies of comments received in response to proposed rules usually are also available for review at the Commission's library until the Commission publishes the rule in final form. However, given the EEOC's current 100% telework status due to the COVID-19 pandemic, the Commission's library is closed until further notice. Once the Commission's library is re-opened, copies of comments received in response to the proposed rule will be made available for viewing at 131 M Street NE, Suite 4NW08R, Washington, DC 20507, between the hours of 9:30 a.m. and 5:00 p.m.

FOR FURTHER INFORMATION CONTACT: Andrew Maunz, Legal Counsel, at andrew.maunz@eeoc.gov or 202-702-2671.

SUPPLEMENTARY INFORMATION: On December 11, 2019, the EEOC requested comments on a proposed rule, published at 84 FR 67683, to amend its rule covering official time for representatives who are employees of the federal government. The EEOC received more than 1,800 comments before the comment period closed on February 10, 2020. Due to the high level of interest on the topic, the Commission wants to ensure that it gives all interested stakeholders ample opportunity to comment. Therefore, the EEOC will reopen the comment period for 60 additional days. Parties should refer to the proposed rule, at 84 FR 67683, for further details about the issues under consideration.

For the Commission.
Dated: May 22, 2020.
Janet Dhillon,
Chair.

[FR Doc. 2020-11457 Filed 5-29-20; 8:45 am]

BILLING CODE 6570-01-P